DEPARTMENT OF COMMERCE

National Telecommunications and Information Administration

Docket No. 0811251523-81524-01

Spectrum Sharing Innovation Test-Bed Pilot Program

AGENCY: National Telecommunications and Information Administration, U.S. Department of Commerce

ACTION: Notice, Request for Comments

SUMMARY: This notice describes and seeks comment on the types and depth of testing that the National Telecommunications and Information Administration (NTIA) intends to conduct in Phase I of the Spectrum Sharing Innovation Test-Bed pilot program to assess whether devices employing Dynamic Spectrum Access techniques can share the frequency spectrum with land mobile radio systems.

DATES: Comments are due on or before December 30, 2008.

ADDRESSES: Comments should be sent to the attention of Ed Drocella, Office of Spectrum Management, 1401 Constitution Avenue, N.W., Room 6725, Washington DC, 20230; by facsimile transmission to (202) 482-4595; or by electronic mail to testbed@ntia.doc.gov.

FOR FURTHER INFORMATION CONTACT: Ed Drocella at 202-482-2608 or edrocella@ntia.doc.gov.

SUPPLEMENTARY INFORMATION:

I. Background

One of the recommendations in the Department of Commerce reports for the Presidential Spectrum Policy Initiative directed NTIA, in coordination with the Federal Communications Commission (FCC) and other Federal agencies, to establish a Spectrum Sharing Innovation Test-Bed (Test-Bed) pilot program to examine the feasibility of increased sharing between Federal and non-Federal users. This pilot program is one of the key elements of the President's 21st Century Spectrum Policy Initiative and is an opportunity for Federal agencies to work cooperatively with industry, researchers, and academia to objectively evaluate new technologies that can improve management of the nation's airwaves.

On February 5, 2008, NTIA published a Notice in the Federal Register describing the Test-Bed pilot program.¹ Concurrently, the FCC released a Public Notice (PN) designating 10 MHz of non-Federal spectrum to be used in the Test-Bed pilot program and providing guidance for participants.² As described in the Notice and the PN, the Test-Bed pilot program will evaluate the ability of Dynamic Spectrum Access (DSA) devices employing spectrum sensing and/or geo-location techniques to share spectrum with land mobile radio (LMR) systems operating in the 410-420 MHz Federal band and in the 470-512 MHz non-Federal band.³ To address potential interference to incumbent spectrum users, the Test-Bed will include both laboratory and field measurements performed in three phases:

¹ Spectrum Sharing Test-Bed, 73 Fed. Reg. 6,710 (NTIA February 5, 2008) (notice of solicitation of participation).

² See Federal Communications Commission Designates Spectrum and Provides Guidance For Participation in a Spectrum Sharing Innovation Test-Bed, Public Notice, ET Docket No. 06-89, 23 FCC Rcd. 1654 (Feb. 5, 2008).

³ Dynamic Spectrum Access technology allows a radio device to (i) evaluate its radio frequency environment using spectrum sensing, geo-location, or a combination of spectrum sensing and geo-location techniques, (ii) determine which frequencies are available for use on a non-interference basis, and (iii) reconfigure itself to operate on the identified frequencies.

Phase I Equipment Characterization. Equipment employing DSA techniques will be sent to the NTIA Institute for Telecommunication Sciences in Boulder, Colorado to undergo characterization measurements of the DSA capabilities in response to simulated environmental signals.

Phase II Evaluation of Capabilities. After successful completion of Phase I, the DSA spectrum sensing and/or geo-location capabilities of the equipment will be evaluated in the geographic area of the Test-Bed.

Phase III Field Operation Evaluation. After successful completion of Phase II, the DSA equipment will be permitted to transmit in an actual radio frequency signal environment. An automatic signal logging capability will be used during operation of the Test-Bed to help resolve interference events if they occur. A point-of-contact will also be established to stop Test-Bed operations if interference is reported.

Eleven parties submitted solicitations of interest to participate in the Test-Bed pilot program. As a result of selection criteria specified in the February 2008 Federal Register Notice, the following parties were selected to participate in the Test-Bed pilot program: Adapt4 LLC, Adaptrum Inc., BAE Systems, Motorola Inc., Shared Spectrum Company, and Virginia Polytechnic Institute and State University.⁴

⁴ Additional information on the Test-Bed pilot program is available at the following website: http://www.ntia.doc.gov/ntiahome/frnotices/2006/ spectrumshare/comments.htm.

II. Request for Comments

As discussed in the February 2008 Federal Register Notice, a peer review process will be employed to give the public an opportunity to participate in the development of test plans for the Test-Bed pilot program.⁵ A copy of the draft Phase I test plan is available in HTML, Word, and PDF formats on the following website:

⁵ There are certain limitations on the peer review process to take into account the proprietary rights of the developers participating in the Test-Bed. As part of the Test-Bed, NTIA may enter into Cooperative Research and Development Agreements or Joint Project Agreements with the equipment developers.

http://www.ntia.doc.gov/ntiahome/ frnotices/2006/spectrumshare/ comments.htm.

On or before December 30, 2008, interested parties wishing to comment on the draft Phase I test plan should submit to the address set forth above, their name, address, phone number, e-mail address and their comments. NTIA will publish the final version of the Phase I test plan on its website.

Dated: December 10, 2008.
Kathy D. Smith,
Chief Counsel, National Telecommunications and Information Administration.

[FR Doc. E8-29631 Filed 12-12-08; 8:45 am]

BILLING CODE 3510-60-S